DEPARTMENT OF COMMERCE

International Trade Administration

[A-570-929]

Small Diameter Graphite Electrodes From the People's Republic of China: Rescission of Antidumping Duty Administrative Review in Part; 2015-2016

AGENCY: Enforcement and Compliance, International Trade Administration, Department of Commerce.

SUMMARY: The Department of Commerce (the Department) is rescinding its administrative review in part on small diameter graphite electrodes from the People's Republic of China (PRC) for the period of review (POR) February 1, 2015 through January 31, 2016.

DATES: Effective August 19, 2016.

FOR FURTHER INFORMATION CONTACT: Dmitry Vladimirov or Michael Romani AD/CVD Operations Office I, Enforcement and Compliance, International Trade Administration, U.S. Department of Commerce, 1401 Constitution Avenue NW., Washington, DC 20230; telephone: (202) 482-0665 and (202) 482-0198, respectively.

SUPPLEMENTARY INFORMATION:

Background

On February 3, 2016, we published a notice of opportunity to request an administrative review of the antidumping duty order on small diameter graphite electrodes from the PRC for the POR February 1, 2015 through January 31, 2016.¹ On April 7, 2016, in response to a timely request from the petitioners ² and in accordance with section 751(a) of the Tariff Act of 1930, as amended (the Act), and 19 CFR 351.221(c)(1)(i), we initiated an administrative review of the antidumping duty order on small diameter graphite electrodes from the PRC with respect to 196 companies.³ On July 6, 2016, the petitioners withdrew their request for an administrative review for 193 out of 196 companies.⁴ See Appendix for a full list of these companies. No other party requested a review.

¹ See Antidumping or Countervailing Duty Order, Finding, or Suspended Investigation; Opportunity to Request Administrative Review, 81 FR 5712 (February 3, 2016).

² SGL Carbon LLC and Superior Graphite Co (collectively, the petitioners). See letter from the petitioners to the Department, “7th Administrative Review of Small Diameter Graphite Electrodes from the People's Republic of China—Petitioners' Withdrawal of Certain Requests for Administrative Review” (July 6, 2016) (Withdrawal Request).

³ See Initiation of Antidumping and Countervailing Duty Administrative Reviews, 81 FR 20324 (April 7, 2016).

⁴ See the petitioners' Withdrawal Request at Attachment 1. No withdrawal was requested for the Fangda Group, Fushun Jinly Petrochemical Carbon Co., Ltd., a.k.a. Fushun Jinli Petrochemical Carbon Co., Ltd., and Jilin Carbon Import and Export Company.

Rescission of Administrative Review in Part

Pursuant to 19 CFR 351.213(d)(1), the Department will rescind an administrative review, “in whole or in part, if a party that requested a review withdraws the request within 90 days of the date of publication of notice of initiation of the requested review.” Because the petitioners timely withdrew their review request, and because no other party requested a review of the companies for which the petitioners requested a review, we are rescinding the administrative review, in part, with respect to 193 companies for which the petitioners originally sought a review.

Assessment

The Department will instruct U.S. Customs and Border Protection (CBP) to assess antidumping duties on all appropriate entries. For the companies for which the review is rescinded, antidumping duties shall be assessed at rates equal to the cash deposit of estimated antidumping duties required at the time of entry, or withdrawal from warehouse, for consumption, in accordance with 19 CFR 351.212(c)(1)(i). The Department intends to issue appropriate assessment instructions to CBP within 15 days after publication of this notice.

Notifications to Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: August 15, 2016.
Christian Marsh,
Deputy Assistant Secretary for Antidumping and Countervailing Duty Operations.

Appendix

The 193 companies for which the petitioners have withdrawn their request for a review are as follows:

1. 5-Continent Imp. & Exp. Co., Ltd.

2. Acclcarbon Co., Ltd.

3. Allied Carbon (China) Co., Limited

4. AMGL

5. Anssen Metallurgy Group Co., Ltd.

6. Apex Maritime (Dalian) Co., Ltd.

7. Asahi Fine Carbon (Dalian) Co., Ltd.

8. Assi Steel Co. Ltd.

9. Beijing International Trade Co., Ltd.

10. Beijing Kang Jie Kong Cargo Agent Expeditors (Tianjin Branch)

11. Beijing Shougang Huaxia International Trade Co. Ltd.

12. Beijing Xinchengze Inc.

13. Beijing Xincheng Sci-Tech. Development Inc.

14. Brilliant Charter Limited

15. Carbon International

16. Chang Cheng Chang Electrode Co., Ltd.

17. Chengde Longhe Carbon Factory

18. Chengdelh Carbonaceous Elements Factory

19. Chengdu Jia Tang Corp.

20. China Carbon Graphite Group Inc.

21. China Carbon Industry

22. China Industrial Mineral & Metals Group

23. China Shaanxi Richbond Imp. & Exp. Industrial Corp. Ltd.

24. China Xingyong Carbon Co., Ltd.

25. CIMM Group Co., Ltd.

26. Dalian Carbon & Graphite Corporation

27. Dalian Hongrui Carbon Co., Ltd.

28. Dalian Honest International Trade Co., Ltd.

29. Dalian Horton International Trading Co., Ltd.

30. Dalian LST Metallurgy Co., Ltd.

31. Dalian Oracle Carbon Co., Ltd.

32. Dalian Shuangji Co., Ltd.

33. Dalian Thrive Metallurgy Imp. & Exp. Co., Ltd.

34. Dandong Xinxin Carbon Co. Ltd.

35. Datong Carbon;

36. Datong Carbon Plant

37. Datong Xincheng Carbon Co., Ltd.

38. Datong Xincheng New Material Co.

39. Dechang Shida Carbon Co., Ltd.

40. De Well Container Shipping Corp.

41. Dewell Group

42. Dignity Success Investment Trading Co., Ltd.

43. Double Dragon Metals and Mineral Tools Co., Ltd.

44. Fangda Lanzhou Carbon Joint Stock Company Co. Ltd.

45. Foset Co., Ltd.

46. Fushun Carbon Plant

47. Fushun Oriental Carbon Co., Ltd.

48. GES (China) Co., Ltd.

49. Gold Success Group Ltd.

50. Grameter Shipping Co., Ltd. (Qingdao Branch)

51. Guangdong Highsun Yongye (Group) Co., Ltd.

52. Guanghan Shida Carbon Co., Ltd.

53. Haimen Shuguang Carbon Industry Co., Ltd.

54. Handan Hanbo Material Co., Ltd.

55. Hanhong Precision Machinery Co., Ltd.

56. Hebei Long Great Wall Electrode Co., Ltd.

57. Heico Universal (Shanghai) Distribution Co., Ltd.

58. Heilongjiang Xinyuan Carbon Co. Ltd.

59. Heilongjiang Xinyuan Carbon Products Co., Ltd.

60. Heilongjiang Xinyuan Metacarbon Company Ltd.

61. Henan Sanli Carbon Products Co., Ltd.

62. Henan Sihai Import and Export Co., Ltd.

63. Hopes (Beijing) International Co., Ltd.

64. Huanan Carbon Factory

65. Hunan Mec Machinery and Electronics Imp. & Exp. Corp.

66. Hunan Yinguang Carbon Factory Co., Ltd.

67. Inner Mongolia QingShan Special Graphite and Carbon Co., Ltd.

68. Inner Mongolia Xinghe County Hongyuan Electrical Carbon Factory

69. Jiangsu Yafei Carbon Co., Ltd.

70. Jiaozuo Zhongzhou Carbon Products Co., Ltd.

71. Jichun International Trade Co., Ltd. of Jilin Province

72. Jiexiu Juyuan Carbon Co., Ltd.

73. Jiexiu Ju-Yuan & Coaly Co., Ltd.

74. Jilin Carbon Graphite Material Co., Ltd.

75. Jilin Songjiang Carbon Co Ltd.

76. Jinneng Group

77. Jinneng Group Co., Ltd.

78. Jinyu Thermo-Electric Material Co., Ltd.

79. JL Group

80. Kaifeng Carbon Company Ltd.

81. KASY Logistics (Tianjin) Co., Ltd.

82. Kimwan New Carbon Technology and Development Co., Ltd.

83. Kingstone Industrial Group Ltd.

84. L & T Group Co., Ltd.

85. Laishui Long Great Wall Electrode Co. Ltd.

86. Lanzhou Carbon Co., Ltd.

87. Lanzhou Carbon Import & Export Corp.

88. Lanzhou Hailong New Material Co.

89. Lanzhou Hailong Technology

90. Lanzhou Ruixin Industrial Material Co., Ltd.

91. Lianxing Carbon Qinghai Co., Ltd.

92. Lianxing Carbon Science Institute

93. Lianxing Carbon (Shandong) Co., Ltd.

94. Lianyungang Jianglida Mineral Co., Ltd.

95. Lianyungang Jinli Carbon Co., Ltd.

96. Liaoning Fangda Group Industrial Co., Ltd.

97. Liaoyang Carbon Co. Ltd.

98. Linghai Hongfeng Carbon Products Co., Ltd.

99. Linyi County Lubei Carbon Co., Ltd.

100. Maoming Yongye (Group) Co., Ltd.

101. MBI Beijing International Trade Co., Ltd.

102. Nantong Dongjin New Energy Co., Ltd.

103. Nantong Falter New Energy Co., Ltd.

104. Nantong River-East Carbon Co., Ltd.

105. Nantong River-East Carbon Joint Stock Co., Ltd.

106. Nantong Yangtze Carbon Corp. Ltd.

107. Nantong Yanzi Carbon Co. Ltd.

108. Oracle Carbon Co., Ltd.

109. Orient (Dalian) Carbon Resources Developing Co., Ltd.

110. Orient Star Transport International, Ltd.

111. Peixian Longxiang Foreign Trade Co. Ltd.

112. Pingdingshan Coal Group

113. Pudong Trans USA, Inc. (Dalian Office)

114. Qingdao Grand Graphite Products Co., Ltd.

115. Qingdao Haosheng Metals Imp. & Exp. Co., Ltd.

116. Quingdao Haosheng Metals & Minerals Imp. & Exp. Co., Ltd.

117. Qingdao Liyikun Carbon Development Co., Ltd.

118. Qingdao Likun Graphite Co., Ltd.

119. Qingdao Ruizhen Carbon Co., Ltd.

120. Qingdao Yijia E.T.I. I/E Co., Ltd.

121. Qingdao Youyuan Metallurgy Material Limited Company (China)

122. Ray Group Ltd.

123. Rex International Forwarding Co., Ltd.

124. Rt Carbon Co., Ltd.

125. Ruitong Carbon Co., Ltd.

126. Sea Trade International, Inc.

127. Seamaster Global Forwarding (China)

128. Shandong Basan Carbon Plant

129. Shandong Zibo Continent Carbon Factory

130. Shanghai Carbon International Trade Co., Ltd.

131. Shanghai GC Co., Ltd.

132. Shanghai Jinneng International Trade Co., Ltd.

133. Shanghai P.W. International Ltd.

134. Shanghai Shen-Tech Graphite Material Co., Ltd.

135. Shanghai Topstate International Trading Co., Ltd.

136. Shanxi Cimm Donghai Advanced Carbon Co., Ltd.

137. Shanxi Datong Energy Development Co., Ltd.

138. Shanxi Foset Carbon Co. Ltd.

139. Shanxi Jiexiu Import and Export Co., Ltd.

140. Shanxi Jinneng Group Co., Ltd.

141. Shanxi Yunheng Graphite Electrode Co., Ltd.

142. Shenyang Jinli Metals & Minerals Imp. & Exp. Co., Ltd.

143. Shida Carbon Group

144. Shijaizhuang Carbon Co., Ltd.

145. Shijiazhuang Huanan Carbon Factory

146. Sichuan 5-Continent Imp & Exp Co., Ltd.

147. Sichuan Dechang Shida Carbon Co., Ltd.

148. Sichuan GMT International Inc.

149. Sichuan Guanghan Shida Carbon Co., Ltd

150. Sichuan Shida Carbon Co., Ltd.

151. Sichuan Shida Trading Co., Ltd.

152. Sinicway International Logistics Ltd.

153. Sinosteel Anhui Co., Ltd.

154. Sinosteel Corp.

155. Sinosteel Jilin Carbon Co., Ltd.

156. Sinosteel Jilin Carbon Imp. & Exp. Co., Ltd.

157. Sinosteel Jilin Carbon Plant

158. Sinosteel Sichuan Co., Ltd.

159. SK Carbon

160. SMMC Group Co., Ltd.

161. Sure Mega (Hong Kong) Ltd.

162. Tangshan Kimwan Special Carbon & Graphite Co., Ltd.

163. Tengchong Carbon Co., Ltd.

164. T.H.I. Global Holdings Corp.

165. T.H.I. Group (Shanghai) Ltd.

166. Tianjin (Teda) Iron & Steel Trade Co., Ltd.

167. Tianjin Kimwan Carbon Technology and Development Co., Ltd.

168. Tianjin Yue Yang Industrial & Trading Co., Ltd.

169. Tianzhen Jintian Graphite Electrodes Co., Ltd.

170. Tielong (Chengdu) Carbon Co., Ltd.

171. UK Carbon & Graphite

172. United Carbon Ltd.

173. United Trade Resources, Inc.

174. Weifang Lianxing Carbon Co., Ltd.

175. World Trade Metals & Minerals Co., Ltd.

176. XC Carbon Group

177. Xinghe County Muzi Carbon Co., Ltd., a.k.a. Xinghe County Muzi Carbon Plant

178. Xinghe Xingyong Carbon Co., Ltd.

179. Xinghe Xinyuan Carbon Products Co., Ltd.

180. Xinyuan Carbon Co., Ltd.

181. Xuanhua Hongli Refractory and Mineral Company

182. Xuchang Minmetals & Industry Co., Ltd.

183. Xuzhou Carbon Co., Ltd.

184. Xuzhou Electrode Factory

185. Xuzhou Jianglong Carbon Products Co., Ltd.

186. Yangzhou Qionghua Carbon Trading Ltd.

187. Yixing Huaxin Imp & Exp Co. Ltd.

188. Youth Industry Co., Ltd

189. Zhengzhou Jinyu Thermo-Electric Material Co., Ltd.

190. Zibo Continent Carbon Factory

191. Zibo DuoCheng Trading Co., Ltd.

192. Zibo Lianxing Carbon Co., Ltd.

193. Zibo Wuzhou Tanshun Carbon Co., Ltd.

[FR Doc. 2016-19859 Filed 8-18-16; 8:45 am]

BILLING CODE 3510-DS-P